DEPARTMENT OF VETERANS AFFAIRS

38 CFR Parts 19 and 20

RIN 2900-AE78

Board of Veterans' Appeals: Appeals Regulations; Rules of Practice

AGENCY: Department of Veterans Affairs.

ACTION: Withdrawal of proposed rule.

SUMMARY: The Department of Veterans Affairs (VA) published a proposed rule in the Federal Register on February 3, 1992 (57 FR 4131) to amend its regulations regarding the Appeals Regulations and Rules of Practice of the Board of Veterans' Appeals. The proposed rule and the comments we received have been superseded by events. Accordingly, this document hereby withdraws the proposed rule.

DATES: The proposed rule is withdrawn as of March 4, 2004.

FOR FURTHER INFORMATION CONTACT: Steven L. Keller, Senior Deputy Vice Chairman, Board of Veterans' Appeals (012), Department of Veterans Affairs, 810 Vermont Avenue, NW., Washington, DC 20420 (202-565-5978).

SUPPLEMENTARY INFORMATION: In 1988, the Veterans' Judicial Review Act (Pub. L. 100-687, Div. A) was signed into law. On August 18, 1989, VA published a proposed rule in the Federal Register (54 FR 34334) to revise the Appeals Regulations and Rules of Practice of the Board of Veterans' Appeals (Board). The revisions were deemed necessary in order to provide appellate procedures that conformed to the law and to inform the public about those procedures.

Based on that proposed rule, on February 3, 1992, VA published in the Federal Register (57 FR 4088) final regulations that amended parts 14 and 19 and added a part 20 to title 38, Code of Federal Regulations. At that time, VA also deemed necessary further additions and revisions to some of the Board's Appeals Regulations and Rules of Practice. VA therefore published on February 3, 1992, as a companion document in the Federal Register (57 FR 4131) a proposed rule to clarify certain regulations and, in some instances, provide revised regulations that more accurately reflected the relevant statutory authority. VA is now by this document withdrawing that proposed rule.

Subsequent to the publication of the February 3, 1992, proposed rule, the Board of Veterans' Appeals Administrative Procedures Improvement Act of 1994 (Public Law 103-271) was signed into law on July 1, 1994. In addition, Public Law 105-111, concerning revision of decisions based on clear and unmistakable error, was signed into law on November 21, 1997. These laws significantly altered the appeals process and organization of the Board. The structure of the Board was changed to permit decisions to be made by individual members of the Board rather than by 3-Member “Sections.” The Board's jurisdiction was also expanded to include the review of its own decisions for clear and unmistakable error. 38 U.S.C. 7111. Amendments to the Board's Appeals Regulations and Rules of Practice were subsequently published that rendered portions of the February 3, 1992, proposed rule obsolete.

VA believes that withdrawing the February 3, 1992, proposed rule would be less confusing than attempting to sift out the superseded provisions from the ones that could go forward. The Board will reevaluate appropriate amendments to its Regulations and Rules of Practice in light of the intervening changes.

Approved: December 30, 2003.
Anthony J. Principi,
Secretary of Veterans Affairs.

[FR Doc. 04-4803 Filed 3-3-04; 8:45 am]

BILLING CODE 8320-01-P